DEPARTMENT OF DEFENSE

Office of the Secretary

Reserve Forces Policy Board (RFPB); Notice of Federal Advisory Committee Meeting

AGENCY: Office of the Secretary of Defense for Personnel and Readiness, DoD.

ACTION: Notice of Federal Advisory Committee meeting.

SUMMARY: The Department of Defense (DoD) is publishing this notice to announce that the following Federal Advisory Committee meeting of the Reserve Forces Policy Board will take place.

DATES: The RFPB will hold an open meeting to the public Tuesday, September 10, 2019 from 8:55 a.m. to 3:10 p.m.

ADDRESSES: The RFPB meeting address is the Army Navy Country Club, 1700 Army Navy Drive, Arlington, VA 22202.

FOR FURTHER INFORMATION CONTACT: Mr. Alex Sabol, Designated Federal Officer, (703) 681-0577 (Voice), (703) 681-0002 (Facsimile), Email—Alexander.J.Sabol.Civ@Mail.Mil. Mailing address is Reserve Forces Policy Board, 5113 Leesburg Pike, Suite 601, Falls Church, VA 22041. Website: http://rfpb.defense.gov/. The most up-to-date changes to the meeting can be found on the RFPB's website.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The purpose of the meeting is to obtain, review and evaluate information related to strategies, policies, and practices designed to improve and enhance the capabilities, efficiency, and effectiveness of the Reserve Components.

Agenda: The RFPB will hold an open meeting to the public Wednesday, September 10, 2019 from 8:55 a.m. to 3:10 p.m. The meeting will focus on discussions with the Federal Emergency Management Agency (FEMA) and will discuss FEMA's perspectives on the use of the National Guard and Reserve in responding to disasters; the National Commission of the Military, National, and Public Service will discuss the Commission's charter and their analysis on the future of the Selective Service System and the Individual Ready Reserve; the Assistant Secretary of Defense for Manpower and Reserve Affairs, Performing the Duties of the Under Secretary of Defense for Personnel and Readiness remarks will provide an update on current initiatives within the Department of Defense; the Reserve Organization of America (ROA) will provide ROA's perspectives on their initiatives and the ongoing legislative actions concerning policies affecting the Reserve Components; the United Service Organizations (USO) Inc. will provide the USO's ongoing initiatives and programs which provide valuable services and support to our military service members; the Employer Support of the Guard and Reserve Freedom Award Panel Discussion on Reserve Employees will discuss employer's ongoing challenges as well as policy recommendations to improve the hiring and retention of Reserve members; and the Board meeting will conclude with a briefing from the Subcommittee on Ensuring a Ready, Capable, Available, and Sustainable Operational Reserve that will provide the subcommittee's review of the Reserve Components' cost study findings for a proposed RFPB recommendation to the Secretary of Defense.

Meeting Accessibility: Pursuant to 5 U.S.C. 552b, as amended and 41 CFR 102-3.140 through 102-3.165, and subject to the availability of space, the meeting is open to the public from 8:55 a.m. to 3:10 p.m. Seating is based on a first-come, first-served basis. All members of the public who wish to attend the public meeting must contact Mr. Alex Sabol, the Designated Federal Officer, not later than 12:00 p.m. on Monday, September 9, 2019, as listed in the FOR FURTHER INFORMATION CONTACT section.

Written Statements: Pursuant to 41 CFR 102-3.105(j) and 102-3.140 and section 10(a)(3) of the FACA, interested persons may submit written statements to the RFPB at any time about its approved agenda or at any time on the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's website.

Dated: August 19, 2019.
Aaron T. Siegel,
Alternate OSD Federal Register Liaison Officer, Department of Defense.

[FR Doc. 2019-18136 Filed 8-21-19; 8:45 am]

BILLING CODE 5001-06-P